DEPARTMENT OF COMMERCE

National Oceanic and Atmospheric Administration

RIN 0648-XG548

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit renewal application from the Commercial Fisheries Research Foundation contains all of the required information and warrants further consideration. This permit would facilitate research on the abundance and distribution of juvenile American lobster and Jonah crab along the northwest Atlantic coast. Regulations under the Magnuson-Stevens Fishery Conservation and Management Act and the Atlantic Coastal Fisheries Cooperative Management Act require publication of this notice to provide interested parties the opportunity to comment on applications for proposed Exempted Fishing Permits.

DATES: Comments must be received on or before October 31, 2018.

ADDRESSES: You may submit written comments by any of the following methods:

• Email: NMFS.GAR.EFP@noaa.gov. Include in the subject line “Comments on CFRF Lobster Study Fleet EFP.”

• Mail: Michael Pentony, Regional Administrator, NMFS, Greater Atlantic Regional Fisheries Office, 55 Great Republic Drive, Gloucester, MA 01930. Mark the outside of the envelope “Comments on CFRF Lobster Study Fleet EFP.”

FOR FURTHER INFORMATION CONTACT: Laura Hansen, NOAA Affiliate, 978-281-9225, Laura.Hansen@noaa.gov.

SUPPLEMENTARY INFORMATION: The Commercial Fisheries Research Foundation (CFRF) submitted a complete application to renew an existing Exempted Fishing Permit (EFP) on September 20, 2018, to conduct fishing activities that the regulations would otherwise restrict. The EFP would authorize 17 vessels to continue a study using ventless lobster traps to survey the abundance and distribution of juvenile American lobster and Jonah crab in regions and times of year not covered by traditional surveys. Overall, this EFP proposes to use 54 ventless lobster traps throughout Lobster Conservation Management Areas (LCMA) 2, 3, 4, and 5; covering statistical areas 514, 515, 521, 522, 525, 526, 533, 534, 537, 538, 539, 541, 542, 543, 561, 562, 613, 615, 616, 622, 623, 624, 626, 627, 628, 629, 632, 633, 634, 636, 637, 638, and 640. Maps depicting these areas are available on request. The study is designed to aid and inform management by addressing the questions of changing reproduction and recruitment dynamics of lobster, and developing a foundation of knowledge for data poor Jonah crab fishery.

Funding for this study has been awarded through the Campbell Foundation and the Saltonstall-Kennedy Grants Program (Grant # NA17NMF4270208). For this research, CFRF is requesting exemptions from the following Federal lobster regulations:

1. Gear specification requirements in 50 CFR 697.21(c) to allow for closed escape vents and smaller trap mesh and entrance heads;

2. Trap limit requirements, as listed in § 697.19, for LCMA 2, 3, 4 and 5, to be exceeded by 3 additional traps per fishing vessel for a total of 54 additional traps;

3. Trap tag requirements, as specified in § 697.19(j), to allow for the use of untagged traps (though each experimental trap will have the participating fisherman's identification attached); and

4. Possession restrictions in §§§ 697.20(a), 697.20(d), and 697.20(g) to allow for temporary possession of juvenile, v-notched, and egg-bearing lobsters for onboard biological sampling.

If the EFP is approved, this research would take place during the regular fishing activity of the participating vessels: 6 “inshore” vessels in LCMA 2 and 11 “offshore” vessels in LCMAs 3, 4, and 5. Experimental traps will be attached to a standard, Atlantic Large Whale-compliant trap trawl. Modifications to conventional lobster traps used in this study include a closed escape vents, single parlors, and smaller mesh sizes and entrance heads, all to allow for the capture of juvenile lobsters and Jonah crabs. Sampling would occur weekly in LCMA 2, and every 10 days in the other areas.

All lobster and Jonah crabs caught in the experimental traps will be counted, sexed, and measured. Biological information including shell hardness and presence of eggs will also be recorded. All species captured in study traps will be returned promptly to the sea after sampling. All data collected will be made available to state and Federal management agencies to improve and enhance the available data for these two crustacean species.

Currently, there are no Federal regulations for Jonah crab. We are preparing a proposed rule to establish Federal regulations for the Jonah crab fishery. We anticipate that the final rulemaking will occur during the proposed study period. To ensure that there is no disruption to research activities, we would modify the exemptions granted to this study, should they be approved, to include exemption from the possession of undersized and egg-bearing Jonah crabs. We would solicit comment on this expansion in the rulemaking being developed to propose and implement the Jonah Crab Fishery Management Plan.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 11, 2018.
Margo B. Schulze-Haugen,
Acting Director, Office of Sustainable Fisheries, National Marine Fisheries Service.

[FR Doc. 2018-22485 Filed 10-15-18; 8:45 am]

BILLING CODE 3510-22-P